SMALL BUSINESS ADMINISTRATION

Region IV—North Florida District Advisory Council; Public Meeting

The Small Business Administration Region IV North Florida District Advisory Council, located in the geographical area of Jacksonville, Florida, will hold a public meeting at 12 p.m. eastern time on Thursday, October 11, 2001, at the U.S. Small Business Administration, North Florida District Office, 7825 Baymeadows Way, Suite 100B, Jacksonville, Florida 32256, to discuss such matters as may be presented by members, staff of the Small Business Administration, or others present.

Anyone wishing to make an oral presentation to the Board must contact Wilfredo J. Gonzalez, District Director, in writing by letter or fax no later than September 21, 2001, in order to be put on the agenda. Wilfredo J. Gonzalez, District Director, U.S. Small Business Administration, North Florida District Office, 7825 Baymeadows Way, Suite 100B, Jacksonville, Florida 32256, (904) 443-1900 phone (904) 443-1980 fax.

For further information, write or call Nancy N. Collazo, U.S. Small Business Administration, 7825 Baymeadows Way, Suite 100-B, Jacksonville, Florida 32256-7504, telephone (904) 443-1970.

Steve Tupper,
Committee Management Officer.

[FR Doc. 01-25369 Filed 10-9-01; 8:45 am]

BILLING CODE 8025-01-P